DEPARTMENT OF LABOR

Employment and Training Administration

[TA-W-72,873; TA-W-72,873C; TA-W-72,873G; TA-W-72,873H; TA-W-72,873I; TA-W-72,873J]

Amended Certification Regarding Eligibility To Apply for Worker Adjustment Assistance

TA-W-72,873

RBS Citizens, N.A., Business Services, Including On-Site Leased Workers of Manpower and Randstad and Workers Whose Unemployment Insurance (UI) Wages are Reported Through NextGen Information Services, Inc., 1 Citizens Drive, Riverside, Rhode Island

TA-W-72,873c

RBS Citizens, N.A., Business Services, Including On-Site Leased Workers of Manpower and Randstad and Workers Whose Unemployment Insurance (UI) Wages, are Reported Through NextGen Information Services, Inc., 20 Cabot Rd., Medford, Massachusetts

TA-W-72,873G

RBS Citizens, N.A., Business Services, Including On-Site Leased Workers of Manpower and Randstad and Workers Whose Unemployment Insurance (UI) Wages are Reported Through NextGen Information Services, Inc., 1000 Lafayette Boulevard, Bridgeport, Conneticut

TA-W-72,873H

RBS Citizens, N.A., Business Services, Including On-Site Leased Workers of Manpower and Randstad and Workers Whose Unemployment Insurance (UI) Wages are Reported Through NextGen Information Services, Inc., 443 Jefferson Boulevard, Warwick, Rhode Island

TA-W-72,873I

RBS Citizens, N.A., Business Services, Including On-Site Leased Workers of Manpower and Randstad and Workers Whose Unemployment Insurance (UI) Wages are Reported Through NextGen Information Services, Inc., 480 Jefferson Boulevard, Warwick, Rhode Island

TA-W-72,873J

RBS Citizens, N.A., Business Services, Including On-Site Leased Workers of Manpower and Randstad and Workers Whose Unemployment Insurance (UI) Wages are Reported Through NextGen Information Services, Inc., 10561 Telegraph Road, Glen Allen, Virginia

In accordance with Section 223 of the Trade Act of 1974, as amended (“Act”), 19 U.S.C. 2273, the Department of Labor issued a Certification of Eligibility to Apply for Worker Adjustment Assistance on January 21, 2010, applicable to the workers of RBS Citizens, N.A., Business Services Division, at multiple locations across Rhode Island, Massachusetts, Ohio, New Jersey and Pennsylvania. The notice was published in the Federal Register on March 5, 2010 (75 FR 10322). The notice was amended on March 2, 2010 and July 14, 2010 to include other facilities of the subject firm located in Bridgeport, Connecticut, Warwick, Rhode Island, Glen Allen, Virginia, Pittsburgh, Pennsylvania, and Manchester, New Hampshire. The notices were published in the Federal Register on March 13, 2010 (75 FR 11921) and August 2, 2010 (75 FR 45158), respectively.

At the request of a State Agency, the Department reviewed the certification for workers of the subject firm. The workers are engaged in activities related to the supply of internal administrative services.

New information shows that some workers leased from Manpower were supplied to RBS Citizens, N.A., Business Services Division through a contract with NextGen Information Services, Inc., and had their wages reported through a separate unemployment insurance (UI) tax account under the name NextGen Information Services, Inc.

Accordingly, the Department is amending this certification to include workers provided by NextGen Information Services, Inc. under contract with Manpower to RBS Citizens, N.A., Business Services Division, located in Riverside, Rhode Island; Medford, Massachusetts; Bridgeport, Connecticut; Warwick, Rhode Island; and Glen Allen, Virginia.

The intent of the Department's certification is to include all workers of the subject firm who were adversely affected by the shift in services.

The amended notice applicable to TA-W-72,873 is hereby issued as follows:

“All workers of RBS Citizens, N.A., Business Services Division, including on-site leased workers of Manpower and Randstad, and workers whose unemployment insurance (UI) benefits are reported through NextGen Information Services, Inc. through a contract with Manpower, 1 Citizens Drive, Riverside, Rhode Island (TA-W-72,873); 20 Cabot Road, Medford, Massachusetts (TA-W-72,873C); 1000 Lafayette Boulevard, Bridgeport, Connecticut (TA-W-72,873G); 443 Jefferson Boulevard, Warwick, Rhode Island (TA-W-72,873H); 480 Jefferson Boulevard, Warwick, Rhode Island (TA-W-72,873I); and 10561 Telegraph Road, Glen Allen, Virginia (TA-W-72,873J) who became totally or partially separated from employment on or after November 16, 2008, through January 21, 2012, and all workers in the group threatened with total or partial separation from employment on the date of certification through two years from the date of certification, are eligible to apply for adjustment assistance under Chapter 2 of Title II of the Trade Act of 1974, as amended.”

Signed in Washington, DC, this 4th day of January 2011.
Michael W. Jaffe,
Certifying Officer, Office of Trade Adjustment Assistance.

[FR Doc. 2011-745 Filed 1-13-11; 8:45 am]

BILLING CODE 4510-FN-P